DEPARTMENT OF TRANSPORTATION

Maritime Administration

[Docket No. MARAD-2000-6854]

Information Collection Available for Public Comments and Recommendations

ACTION: Notice and request for comments.

SUMMARY: In accordance with the Paperwork Reduction Act of 1995, this notice announces the Maritime Administration's (MARAD) intentions to request approval for three years of an existing information collection entitled “Seamen's Claims; Administrative Action and Litigation.”

DATES: Comments should be submitted on or before April 7, 2000.

FOR FURTHER INFORMATION CONTACT: Otto A. Strassburg, Chief, Division of Marine Insurance, Office of Insurance and Shipping Analysis, Maritime Administration, 400 Seventh Street, SW, Room 8117, Washington, D.C. 20590, telephone number—202-366-4161. Copies of this collection can also be obtained from that office.

SUPPLEMENTARY INFORMATION: Title of Collection: Seamen's Claims; Administrative Action and Litigation.

Type of Request: Approval of an existing information collection.

OMB Control Number: 2133-0522.

Form Number: None.

Expiration Date of Approval: Three years from the date of approval.

Summary of Collection of Information: The collection of information is obtained from claimants for death, injury or illness suffered while serving as officers or members of a crew employed on vessels as employees of the United States through the National Shipping Authority, Maritime Administration (MARAD), or successor.

Need and Use of the Information: The information obtained will be evaluated by MARAD officials to determine if the claim is fair and reasonable. If the claim is allowed it is settled, a release is obtained from the claimant verifying consummation of the settlement, and payment is made to the claimant.

Description of Respondents: Officers or members of a crew who suffered death, injury, or illness while employed on vessels as employees of the United States through the National Shipping Authority, Maritime Administration, or successor. Also included in this description of respondents are surviving dependents, beneficiaries, and/or legal representatives of officers or crew members.

Annual Responses: 250 responses.

Annual Burden: 3,125 hours.

Comments: Comments should refer to the docket number that appears at the top of this document. Written comments may be submitted to the Docket Clerk, U.S. DOT Dockets, Room PL-401, 400 Seventh Street, SW, Washington, DC 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., et. Monday through Friday, except Federal Holidays. An electronic version of this document is available on the World Wide Web at http://dms.dot.gov.

Dated: February 2, 2000.
By Order of the Maritime Administrator.
Joel C. Richard,
Secretary.

[FR Doc. 00-2712 Filed 2-4-00; 8:45 am]

BILLING CODE 4910-81-P